NATIONAL SCIENCE FOUNDATION

Committee on Equal Opportunities in Science and Engineering; Notice of Meeting

In accordance with the Federal Advisory Committee Act (Pub. L. 92-463, as amended), the National Science Foundation (NSF) announces the following meeting:

Name and Committee Code: Committee on Equal Opportunities in Science and Engineering (CEOSE) (#1173) (Virtual)

Date and Time:

June 13, 2024; 1:00 p.m.-5:30 p.m.

June 14, 2024; 10:00 a.m.-4:00 p.m.

Place: National Science Foundation, 2415 Eisenhower Avenue, Alexandria, VA 22314 (Virtual).

Meeting Registration: Virtual attendance information will be forthcoming on the CEOSE website at: http://www.nsf.gov/od/oia/activities/ceose/index.jsp.

Type of Meeting: Open.

Contact Person: Dr. Bernice Anderson, Senior Advisor and CEOSE Executive Secretary, Office of Integrative Activities (OIA), National Science Foundation, 2415 Eisenhower Avenue, Alexandria, VA 22314. Contact Information: Phone: 703-292-8040, Email: banderso@nsf.gov.

Minutes: Meeting minutes and other information may be obtained from the CEOSE Executive Secretary at the above address or from the CEOSE website at: http://www.nsf.gov/od/oia/activities/ceose/index.jsp.

Purpose of Meeting: To study data, programs, policies, and other information pertinent to the National Science Foundation and to provide advice and recommendations concerning broadening participation in science and engineering.

Agenda: CEOSE Agenda-at-a-Glance.

Day 1: June 13, 2024

1:00 p.m.-1:30 p.m. Opening, Welcome, Introduction

1:30 p.m.-2:00 p.m. Presentation: Report of the CEOSE Executive Liaison

2:30 p.m.-3:00 p.m. NSF Supporting Native Communities: Part II

3:00 p.m.-3:15 p.m. Break

3:15 p.m.-4:30 p.m. Presentation: NSB/NSF Commission on Merit Review

4:30 p.m.-5:30 p.m. Discussion: Reports of the CEOSE AC Liaisons

Day 2: June 14, 2024

10:00 a.m.-10:15 a.m. Opening Remarks

10:15 a.m.-11:15 a.m. Work Session for Writing Te a.m.s of the 2023-2024 CEOSE Report

11:15 a.m.-12:00 p.m. Briefing: NSF EBJ INCLUDES Initiative

12:00 p.m.-1:30 p.m. Working Lunch: Topics/Advice to Share with NSF Senior Leadership

1:30 p.m.-2:00 p.m. Discussion with NSF Leadership

2:00 p.m.-2:15 p.m. Break

2:15 p.m.-3:30 p.m. Panel: STEM Accessibility

3:30 p.m.-3:45 p.m. Discussion: 2023-2024 CEOSE Report to Congress

3:45 p.m.-4:00 p.m. Announcements, Closing Remarks, Adjournment

Dated: May 3, 2024.
Crystal Robinson,
Committee Management Officer.

[FR Doc. 2024-10116 Filed 5-8-24; 8:45 am]

BILLING CODE 7555-01-P